DEPARTMENT OF ENERGY

Federal Energy Regulatory Commission

Combined Notice of Filings #1

Take notice that the Commission received the following electric rate filings:

Docket Numbers: ER12-2292-002.

Applicants: Southwest Power Pool, Inc.

Description: Southwest Power Pool, Inc. submits Petition for Waiver of its Open Access Transmission Tariff Provisions implementing certain curtailment procedures.

Filed Date: 2/13/13.

Accession Number: 20130213-5183.

Comments Due: 5 p.m. e.t. 3/1/13.

Docket Numbers: ER13-934-000.

Applicants: Southwest Power Pool, Inc.

Description: 2520 Blue Canyon Windpower V LLC GIA to be effective 1/14/2013.

Filed Date: 2/13/13.

Accession Number: 20130213-5131.

Comments Due: 5 p.m. e.t. 3/6/13.

Docket Numbers: ER13-935-000.

Applicants: ISO New England Inc.

Description: ISO New England Inc. submits Capital Budget and Capital Budget Quarterly Filing for Fourth Quarter of 2012.

Filed Date: 2/13/13.

Accession Number: 20130213-5182.

Comments Due: 5 p.m. e.t. 3/6/13.

Docket Numbers: ER13-936-000.

Applicants: Powerex Corp.

Description: Expiration of Limited Waiver Tariff Revision to be effective 1/9/2013.

Filed Date: 2/14/13.

Accession Number: 20130214-5041.

Comments Due: 5 p.m. e.t. 3/7/13.

Docket Numbers: ER13-937-000.

Applicants: Southwest Power Pool, Inc.

Description: Southwest Power Pool, Inc. submits Notice of Cancellation of Large Generator Interconnection Service Agreement (1st revised No. 1255).

Filed Date: 2/14/13.

Accession Number: 20130214-5071.

Comments Due: 5 p.m. e.t. 3/7/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 14, 2013.
Nathaniel J. Davis, Sr.,
Deputy Secretary.

[FR Doc. 2013-04074 Filed 2-21-13; 8:45 am]

BILLING CODE 6717-01-P